DEPARTMENT OF COMMERCE

National Oceanic and Atmospheric Administration

DEPARTMENT OF THE INTERIOR

Fish and Wildlife Service

RIN 0648-XX52

Stanford University Habitat Conservation Plan; Extension of Comment Period

AGENCIES: National Marine Fisheries Service (NMFS), National Oceanic and Atmospheric Administration (NOAA), Commerce; Fish and Wildlife Service, Interior (DOI).

ACTION: Notice; extension of comment period.

SUMMARY: The National Marine Fisheries Service and the U.S. Fish and Wildlife Service, are extending the comment period for our joint request for comments on the Stanford University Habitat Conservation Plan (Plan), the Draft Environmental Impact Statement (DEIS) for Authorization of Incidental Take and Implementation of the Plan, and the Implementing Agreement (IA). As of July 2, 2010, we have received comments from four organizations and individuals requesting that the comment period be extended by 45 days. In response to these requests, we are extending the comment period for an additional 45 days.

DATES: We must receive any written comments on the DEIS, Plan, and IA by August 30, 2010, at 5 p.m. Pacific Time.

ADDRESSES: Comments concerning the DEIS, Plan, and IA can be sent by U.S. Mail or facsimile to:

1. Gary Stern, San Francisco Bay Region Supervisor, National Marine Fisheries Service, 777 Sonoma Avenue, Room 325, Santa Rosa, CA 95404; facsimile (707) 578-3435; or

2. Eric Tattersall, Chief, Conservation Planning and Recovery Division, Fish and Wildlife Service, Sacramento Fish and Wildlife Office, 2800 Cottage Way, Room W-2605, Sacramento, CA 95825; facsimile (916) 414-6713.

Comments concerning the DEIS, Plan, and IA can also be sent by email to: Stanford.HCP@noaa.gov. Include the document identifier: Stanford HCP.

FOR FURTHER INFORMATION CONTACT: Gary Stern (NMFS), 707-575-6060, or Sheila Larsen (USFWS), 916-414-6600.

SUPPLEMENTARY INFORMATION: We are extending the comment period for our jointly issued Stanford University Habitat Conservation Plan, a DEIS for Authorization of Incidental Take and Implementation of the Plan, and IA. On April 12, 2010, we opened a 90-day public comment period via a Federal Register notice (75 FR 18482). We then made a correction to our comment period closing date via a May 18, 2010 (75 FR 27708), notice. A public meeting was held at Stanford, CA on May 25, 2010. As of July 2, 2010, we received comments from four organizations and individuals requesting an extension of the comment period by 45 days. In response to requests from the public, we now extend the comment period for an additional 45 days. The comment period will now officially close on August 30, 2010, at 5 p.m. Pacific Time.

Background

For background information, see our April 12, 2010, notice (75 FR 18482).

Document Availability

Copies of the DEIS, Plan, and IA are available on the NMFS Southwest Region website at http://swr.nmfs.noaa.gov or the U.S. Fish and Wildlife Service's Sacramento Fish and Wildlife Office Website at http://www.fws.gov/sacramento/.

Alternatively, the documents are available for public review during regular business hours from 9 a.m. to 5 p.m. at the National Marine Fisheries Service's Santa Rosa Office and the U.S. Fish and Wildlife Service's Sacramento Fish and Wildlife Office (see ADDRESSES). Individuals wishing copies of the DEIS, Plan, or IA should contact either of the Services by telephone (see FOR FURTHER INFORMATION CONTACT) or by letter (see ADDRESSES).

Additionally, hardcopies of the DEIS, Plan, and IA are available for viewing, or for partial or complete duplication, at the following locations:

1. Social Sciences Resource Center, Green Library, Room 121, Stanford, CA 94305.

2. Palo Alto Main Library, 1213 Newell Road, Palo Alto, CA 94303.

Dated: July 12, 2010.
Therese Conant,
Acting Chief, Endangered Species Division, Office of Protected Resources, National Marine Fisheries Service.
Dated: July 9, 2010.
Alexandra Pitts,
Deputy Region Director, Pacific Southwest Region, U.S. Fish and Wildlife Service.

[FR Doc. 2010-17298 Filed 7-14-10; 8:45 am]

BILLING CODES 3510-22-S, 4310-55-S